DEPARTMENT OF DEFENSE

Department of the Navy

Meeting of the Naval Research Advisory Committee

AGENCY: Department of the Navy, DOD.

ACTION: Notice of closed meeting.

SUMMARY: The Naval Research Advisory Committee will meet to discuss basic and advanced research and technology. All sessions of the meetings will be devoted to briefings, discussions and technical examination of information related to the application of technologies to improve the physical security of Navy and Marine Corps bases; and the roles of unmanned vehicles including air, surface, ground and sub-surface vehicles.

DATES: The meetings will be held on Monday, September 30, 2002, through Friday, October 4, 2002, from 8 a.m. to 5 p.m.; Monday, October 7, 2002, through Thursday, October 10, 2002, from 8 a.m. to 5 p.m.; and Friday, October 11, 2002, from 8:30 a.m. to 12 p.m.

ADDRESS: The meetings will be held at the Space and Naval Warfare Systems Center San Diego, 53560 Hull Street, San Diego, California.

FOR FURTHER INFORMATION CONTACT: Dennis Ryan, Program Director, Naval Research Advisory Committee, 800 North Quincy Street, Arlington, VA 22217-5660, (703) 696-6769.

SUPPLEMENTARY INFORMATION: This notice of meetings is provided in accordance with the provisions of the Federal Advisory Committee Act (5 U.S.C. App. 2). All sessions of the meetings will be devoted to briefings, discussions and technical examination of information related to anti-terrorism/force protection (AT/FP) issues with respect to the security of Navy and Marine Corps bases including: access control, automation, intrusion detection systems, consolidation of manpower, threat detection, counter-surveillance, situational awareness, and deterrence; and to the roles of unmanned vehicles in future conflicts including discussions of: current operational requirements, research and development of air, surface, ground, and sub-surface unmanned vehicles and projected technologies. These briefings and discussions will contain proprietary information and classified information that is specifically authorized under criteria established by Executive Order to be kept secret in the interest of national defense and are in fact properly classified pursuant to such Executive Order. The proprietary, classified, and non-classified matters to be discussed are so inextricably intertwined as to preclude opening any portion of the meeting. In accordance with 5 U.S.C. App. 2, section 10(d), the Secretary of the Navy has determined in writing that the public interest requires that all sessions of the meetings be closed to the public because they will be concerned with matters listed in 5 U.S.C. section 552b(c)(1) and (4).

Dated: September 11, 2002.
R.E. Vincent II,
Lieutenant Commander, Judge Advocate General's Corps, U.S. Navy, Federal Register Liaison Officer.

[FR Doc. 02-23554 Filed 9-16-02; 8:45 am]

BILLING CODE 3810-FF-P